DEPARTMENT OF TRANSPORTATION

Federal Aviation Administration

14 CFR Part 39

[Docket No. FAA-2022-0995; Project Identifier MCAI-2021-01365-T; Amendment 39-22269; AD 2022-25-13]

RIN 2120-AA64

Airworthiness Directives; Bombardier, Inc., Airplanes

AGENCY: Federal Aviation Administration (FAA), Department of Transportation (DOT).

ACTION: Final rule.

SUMMARY: The FAA is adopting a new airworthiness directive (AD) for certain Bombardier, Inc., Model BD-700-1A10 and BD-700-1A11 airplanes. This AD was prompted by reports of the passenger door failing to dampen during opening at regularly scheduled maintenance checks, causing the door to open more rapidly than normal. An investigation found that a contributing factor was erroneous aircraft maintenance manual (AMM) procedures. This AD prohibits using certain versions of certain AMM tasks for the passenger door. The FAA is issuing this AD to address the unsafe condition on these products.

DATES: This AD is effective January 13, 2023.

ADDRESSES: AD Docket: You may examine the AD docket at regulations.gov under Docket No. FAA-2022-0995; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Chirayu Gupta, Aerospace Engineer, Mechanical Systems and Administrative Services Section, FAA, New York ACO Branch, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Bombardier, Inc., Model BD-700-1A10 and BD-700-1A11 airplanes. The NPRM published in the Federal Register on August 12, 2022 (87 FR 49799). The NPRM was prompted by AD CF-2021-41, dated November 24, 2021, issued by Transport Canada, which is the aviation authority for Canada (referred to after this as the MCAI). The MCAI states that there have been reports of the passenger door failing to dampen during opening at regularly scheduled maintenance checks, causing the door to open more rapidly than normal. An investigation found that a contributing factor was erroneous AMM procedures.

In the NPRM, the FAA proposed to prohibit using certain versions of certain AMM tasks for the passenger door. The FAA is issuing this AD to prevent rapid opening of the passenger door, which can result in damage to the door and consequent injury to maintenance personnel.

You may examine the MCAI in the AD docket at regulations.gov under Docket No. FAA-2022-0995.

Discussion of Final Airworthiness Directive Comments

The FAA received one comment from an individual. The following presents the comment received on the NPRM and the FAA's response.

Request for Earlier Date of Compliance

The commenter asked that the compliance time in the proposed AD be changed to state that within 30 days, check to confirm that all the tasks in figure 1 to paragraph (g) of this AD were not issued prior to May 19, 2021, and make a logbook entry accordingly. The commenter stated that the current compliance method seems rather odd. The commenter asked if the compliance method means waiting until one of the tasks in figure 1 is accomplished, and then making an aircraft logbook entry that the task was not issued prior to May 19, 2021.

The FAA agrees to clarify. The AMM tasks related to passenger door maintenance have been corrected, and only versions of these tasks dated May 19, 2021, or later have the correct procedures. Therefore, this AD requires that maintenance tasks identified in figure 1 to paragraph (g) of this AD must be done using versions issued on or after May 19, 2021. This requirement remains in effect following the compliance time (30 days after the effective date of this AD), and compliance must be shown for each occurrence. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Costs of Compliance

The FAA estimates that this AD affects 408 airplanes of U.S. registry. The FAA estimates the following costs to comply with this AD:

Estimated costs for required actions
Labor cost | Parts cost | Cost per product | Cost on U.S. operators
1 work-hour × $85 per hour = $85 | $0 | $85 | $34,680

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-25-13 Bombardier Inc.: Amendment 39-22269; Docket No. FAA-2022-0995; Project Identifier MCAI-2021-01365-T.

(a) Effective Date

This airworthiness directive (AD) is effective January 13, 2023.

(b) Affected ADs

None.

(c) Applicability

This AD applies to Bombardier, Inc., Model BD-700-1A10 and BD-700-1A11 airplanes, certificated in any category, serial numbers (S/Ns) 9002 through 9998 inclusive, and S/Ns 60001 through 60045 inclusive.

(d) Subject

Air Transport Association (ATA) of America Code 52, Doors.

(e) Reason

This AD was prompted by reports of the passenger door failing to dampen during opening at regularly scheduled maintenance checks, causing the door to open more rapidly than normal. An investigation found that a contributing factor was erroneous aircraft maintenance manual (AMM) procedures. The FAA is issuing this AD to prevent rapid opening of the passenger door, which can result in damage to the door and consequent injury to maintenance personnel.

(f) Compliance

Comply with this AD within the compliance times specified, unless already done.

(g) Maintenance or Inspection Program Task Restrictions

As of 30 days after the effective date of this AD, when performing the maintenance tasks identified in figure 1 to paragraph (g) of this AD, do not use any version of any task identified in figure 1 to paragraph (g) of this AD that was issued prior to May 19, 2021.

Figure 1 to paragraph (g)—AMM Tasks

(h) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada; or Bombardier, Inc.'s Transport Canada Design Approval Organization (DAO). If approved by the DAO, the approval must include the DAO-authorized signature.

(i) Additional Information

(1) Refer to Transport Canada AD CF-2021-41, dated November 24, 2021; for related information. This Transport Canada AD may be found in the AD docket at regulations.gov under Docket No. FAA-2022-0995.

(2) For more information about this AD, contact Chirayu Gupta, Aerospace Engineer, Mechanical Systems and Administrative Services Section, FAA, New York ACO Branch, 1600 Stewart Avenue, Suite 410, Westbury, NY 11590; telephone 516-228-7300; email 9-avs-nyaco-cos@faa.gov.

(j) Material Incorporated by Reference

None.

Issued on November 30, 2022.
Christina Underwood,
Acting Director, Compliance & Airworthiness Division, Aircraft Certification Service.

[FR Doc. 2022-26649 Filed 12-8-22; 8:45 am]

BILLING CODE 4910-13-P